DEPARTMENT OF HEALTH AND HUMAN SERVICES

Centers for Disease Control and Prevention

[30DAY-42-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

Clinician's Management Approach to Children with Pharyngitis—New—National Center for Infectious Diseases (NCID), Centers for Disease control and Prevention (CDC). The purpose of this study is to determine factors associated with appropriate management of children with pharyngitis. We will characterize office laboratory methods currently used by clinicians to diagnose pharyngitis caused by group A streptococcus (GAS), including rapid antigen detection test (RADT) and throat cultures, and also assess clinicians' treatment approaches for pharyngitis.

The specific goals for this study on children with pharyngitis are:

1. To evaluate current diagnostic methods and treatment approaches for children with pharyngitis by primary care practitioners (pediatricians and family practitioners).

2. To identify factors associated with the use of appropriate laboratory methods by primary care practitioners.

3. To assess the treatment regimen including antimicrobial choices, length and goals of therapy.

4. To determine the impact of full implementation of CLIA on the performance of these tests in office settings.

The investigators will send out an eight-page questionnaire to a sample of 1000 members in each, the American Academy of Pediatrics and the American Academy of Family Practitioners. The survey includes questions on demographics; diagnostic approaches (including types of RADTs and cultures used); logistics in using the diagnostics (such as level of training of the personnel performing the tests, nature of quality control); clinicians' perception and understanding of the RADTs, including published sensitivity and specificity figures; and impact of CLIA (such as any change on the use of RADTs and culture). One month after the first mailing, each individual will be sent a second mailing to maximize the opportunity to complete the survey.

The study population consists of primary care physicians from pediatrics and family practice. These physicians will be from all areas of the United States and, therefore, from diverse geographic locations. The total burden is estimated to be approximately 400 hours.

Respondents | No. of respondents | No. of responses/respondent | Avg. burden/response (in hours)
Physicians | 2,000 | 1 | 12/60

Thomas A. Bartenfeld,
Acting Deputy Director for Policy, Planning and Evaluation, Centers for Disease Control and Prevention.

[FR Doc. 03-13373 Filed 5-28-03; 8:45 am]

BILLING CODE 4163-18-P